FEDERAL COMMUNICATIONS COMMISSION

47 CFR Part 54

[WC Docket No. 10-90; Report No. 3068]

Petition for Reconsideration of Action in Rulemaking Proceeding

AGENCY: Federal Communications Commission.

ACTION: Petition for reconsideration.

SUMMARY: A Petition for Reconsideration (Petition) has been filed in the Commission's proceeding, James Barnett on behalf of Venable LLP.

DATES: Oppositions to the Petition must be filed on or before February 16, 2017. Replies to an opposition must be filed on or before February 27, 2017.

ADDRESSES: Federal Communications Commission, 445 12th Street SW., Washington, DC 20554.

FOR FURTHER INFORMATION CONTACT: Garnet Hanly, Telecommunications Access Policy Division, Wireline Competition Bureau, at (202) 418-7400 or email: Garnet.Hanly@fcc.gov.

SUPPLEMENTARY INFORMATION: This is a summary of the Commission's document, Report No. 3068, released January 13, 2017. The full text of the Petition is available for viewing and copying at the FCC Reference Information Center, 445 12th Street SW., Room CY-A257, Washington, DC 20554. It also may be accessed online via the Commission's Electronic Comment Filing System at: https://www.fcc.gov/ecfs/filing/1010454375886. The Commission will not send a copy of this document pursuant to the Congressional Review Act, 5 U.S.C. 801(a)(1)(A), because this document does not have an impact on any rules of particular applicability.

Subject: In the Matter of Sandwich Isles Communications, Inc., FCC 16-167, released by the Commission on December 5, 2016, in WC Docket No. 10-90. This document is being published pursuant to 47 CFR 1.429(e). See also 47 CFR 1.4(b)(1) and 1.429(f), (g).

Number of Petitions Filed: 1.

Federal Communications Commission.
Katura Howard,
Federal Register Liaison Officer, Office of the Secretary.

[FR Doc. 2017-02121 Filed 1-31-17; 8:45 am]

BILLING CODE 6712-01-P